DEPARTMENT OF ENERGY

Federal Energy Regulatory Commission

[Docket No. CP02-90-001]

AES Ocean Express, L.L.C.; Notice of Availability of the Final Environmental Impact Statement for the Proposed AES Ocean Express Pipeline Project

November 28, 2003.

The staff of the Federal Energy Regulatory Commission (FERC or Commission) has prepared a Final Environmental Impact Statement (FEIS) on the natural gas pipeline facilities proposed by AES Ocean Express, L.L.C. (Ocean Express) in the above-referenced docket.

The FEIS was prepared to satisfy the requirements of the National Environmental Policy Act. The staff concludes that approval of the proposed project with the appropriate mitigating measures as recommended, would have limited adverse environmental impact. The FEIS also evaluates alternatives to the proposal, including system alternatives; major route alternatives; and route variations.

The FEIS addresses the potential environmental effects of the construction and operation of the following facilities:

• About 54.5-miles of 24-inch-diameter of new natural gas pipeline extending from a point on the Exclusive Economic Zone (“EEZ”) boundary between the United States and the Bahamas to delivery points in Broward County, Florida;

• Two new meter stations, and related facilities;

• One below ground valve;

• One aboveground main pipeline shutoff valve; and

• One pig launching/receiving station.

The purpose of the proposed facilities would be to transport about 842,000 dekatherms/day (Dth/d) of natural gas on an annual basis to new markets in southeastern Florida. The primary market is for natural gas-fueled electric generation plants that are needed to meet the forecasted substantial increases in consumption in Florida.

The FEIS has been placed in the public files of the FERC and is available for public inspection at: Federal Energy Regulatory Commission, Public Reference and Files Maintenance Branch, 888 First Street, NE., Room 2A, Washington, DC 20426, (202) 502-8371.

Copies of the FEIS have been mailed to Federal, state and local agencies, public interest groups, individuals who have requested the FEIS, newspapers, and parties to this proceeding.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll-free at (866) 208-3676, or TTY (202) 502-8659. The eLibrary link on the FERC Internet Web site also provides access to the texts of formal documents issued by the Commission, such as orders, notices, and rulemakings.

Linda Mitry,
Acting Secretary.

[FR Doc. E3-00459 Filed 12-3-03; 8:45 am]

BILLING CODE 6717-01-P